DEPARTMENT OF HEALTH AND HUMAN SERVICES

National Institutes of Health

Announcement of Requirements and Registration for “Storytelling About Health and Wellness in American Indian and Alaska Native Communities” Challenge

Authority: 15 U.S.C. 3719.

SUMMARY: In recognition of Native American Heritage Month, the Tribal Health Research Office in the Division of Program Coordination, Planning, and Strategic Initiatives, in the Office of the Director of the National Institutes of Health (NIH), announces the “Storytelling about Health and Wellness in American Indian and Alaska Native Communities” Challenge. The goal of this Challenge is to develop a brief digital story (i.e., a video) that communicates how traditions and heritage promote health in American Indians and Alaska Natives (AI/AN).

DATES: The Challenge begins November 28, 2016.

Submission Period: November 28, 2016 to January 31, 2017.

Judging Period: February 1, 2017 to February 24, 2017.

Winners announced: Week of March 6, 2017.

FOR FURTHER INFORMATION CONTACT: Please contact NIH's Tribal Health Research Office at NIHTribalCommittee@od.nih.gov or 301-402-9852 with questions about this challenge.

SUPPLEMENTARY INFORMATION:

Statutory Authority to Conduct the Challenge: This challenge is consistent with the statutory authority of the Division of Program Coordination, Planning, and Strategic Initiatives, National Institutes of Health. The Division identifies research that represents important areas of emerging scientific opportunities, rising public health challenges, or knowledge gaps that deserve special emphasis and would benefit from conducting or supporting additional research that involves collaboration between two or more national research institutes or national centers, or would otherwise benefit from strategic coordination and planning. As part of this authority, the Division oversees the Tribal Health Research Office, whose function includes managing information dissemination related to tribal health research coordination. The winning videos submitted for this challenge will help communicate about health and wellness of AI/AN communities. The NIH is also conducting this challenge under the America COMPETES Reauthorization Act of 2010 (Pub. L. 111-358), codified at 15 U.S.C. 3719.

Subject of Challenge: Tribal communities are revered for preserving their culture and passing on their history, customs, and traditions through their use of vivid, verbal narratives. Storytelling is an enriching tradition that serves to entertain, educate, and inspire.

To commemorate Native American Heritage Month, the NIH wishes to celebrate the use of storytelling to convey stories of health and wellness. The AI/AN population has long experienced a disparity in certain health conditions compared with other Americans. AI/AN communities have higher rates of diseases and disorders across several areas of health such as: diabetes, chronic liver disease, certain cancers, mental health, and substance use (http://www.cdc.gov/nchs/data/nvsr/nvsr65/nvsr65_05.pdf and http://www.cancer.gov/cancertopics/factsheet/disparities/cancer-health-disparities). Factors known to contribute to health status and disparities are complex, and include social and historical factors, ethnicity, culture, historical trauma, socioeconomic status, gender/sex, age, geographical access to care, and levels of insurance as well as underlying biology, physiology, and genetics. The NIH hopes that this Challenge will incentivize the public to showcase the strengths and resilience of these communities, their heritage and traditions, and how their culture promotes their health and well-being.

The NIH invites the public to participate in this challenge to share stories about: (1) How heritage and tradition leads to health and wellness in AI/AN communities; and (2) how future research can improve the health of American Indians and Alaska Natives. The videos will augment the agency's ongoing efforts to inform a strengthened research portfolio that advances AI/AN research needs. This challenge is also designed to attract more interest and attention to the research needs of these communities and communicate these needs in a culturally appropriate manner.

Eligibility Rules for Participating in the Challenge; Official Rules: The Challenge is open to any “Contestant.” A “Contestant” may be (i) an entity, or (ii) an individual or group of individuals (i.e., a team), each of whom is a U.S. citizen or permanent resident of the United States and 18 years of age or older. For example, Contestants may be communities or community members, schools, organizations, research participants, and others. Contestants may submit more than one entry.

1. To be eligible to win a prize under this Challenge, the Contestant—

a. Shall have registered to participate in the Challenge under the rules promulgated by the NIH as published in this notice;

b. Shall have complied with all the requirements set forth in this notice;

c. In the case of a private entity, shall be incorporated in and maintain a primary place of business in the United States, and in the case of an individual, whether participating singly or in a group, shall be a citizen or permanent resident of the United States;

d. May not be a federal entity; Tribal governments and employees are eligible to submit;

e. May not be a federal employee acting within the scope of the employee's employment and, further, in the case of Department of Health and Human Services employees, may not work on their submission(s) during assigned duty hours. Federal employees seeking to participate in this Challenge outside the scope of their employment should consult their ethics official prior to developing their submission;

f. May not be an employee of the NIH, a member of the technical evaluation panel or judge of the Challenge, or any other party involved with the design, production, execution, or distribution of the Challenge or the immediate family of such a party (i.e., spouse, parent, step-parent, sibling, step-sibling, child, or step-child).

2. Federal grantees may not use federal funds to develop their Challenge submissions.

3. Federal contractors may not use federal funds from a contract to develop their Challenge submissions or to fund efforts in support of their Challenge submissions.

4. Submissions must not infringe upon any copyright or any other rights of any third party.

5. By participating in this Challenge, a Contestant agrees to assume any and all risks and waive claims against the federal government and its related entities (as defined in the COMPETES Act), except in the case of willful misconduct, for any injury, death, damage, or loss of property, revenue, or profits, whether direct, indirect, or consequential, arising from participation in this Challenge, whether the injury, death, damage, or loss arises through negligence or otherwise.

6. Based on the subject matter of the Challenge, the type of work that it will possibly require, as well as an analysis of the likelihood of any claims for death, bodily injury, property damage, or loss potentially resulting from Challenge participation, Contestants are not required to obtain liability insurance or demonstrate financial responsibility in order to participate in this Challenge.

7. By participating in this Challenge, each Contestant agrees to indemnify the federal government against third-party claims for damages arising from or related to Challenge activities.

8. A Contestant shall not be deemed ineligible because the individual or entity used federal facilities or consulted with federal employees during the Challenge if the facilities and employees are made available to all Contestants participating in the Challenge on an equitable basis.

9. By participating in this Challenge, each Contestant grants to the NIH irrevocable, paid-up, royalty-free, nonexclusive worldwide license to post, link to, share, and display publicly on the web the submitted document. Each participant will retain all other intellectual property rights in their submissions, as applicable.

10. The NIH reserves the right to (a) cancel, suspend, modify the Challenge, and/or (b) not award any prizes if no entries are deemed worthy.

11. Each Contestant agrees to follow all applicable federal, state, and local laws, regulations, and policies.

12. Each Contestant participating in this Challenge must comply with all terms and conditions of these rules, and participation in this Challenge constitutes each such participant's full and unconditional agreement to abide by these rules. Winning is contingent upon fulfilling all requirements herein.

Registration and Submission Process for Participants: The registration and submission process for entering the Challenge can be found at: https://dpcpsi.nih.gov/thro/news and at https://www.challenge.gov/.

Submission Requirements: The submission is a video that describes: (1) How heritage and tradition leads to health and wellness in AI/AN communities; and (2) how future research can improve the health of American Indians and Alaska Natives.

Submissions are limited to a video that may not exceed five minutes. Winning entries may be posted on the NIH Web site. Submissions must be substantially free of scientific jargon and understandable by viewers without scientific/technical backgrounds. The video must include at least one member of a federally recognized tribe(s) and address the following:

• A brief historical background that puts the story in context. For example, what is the traditional or cultural practice? How does it contribute to health and wellness in AI/AN populations?

• A description of how this tradition or culture affects people's lives. The impact could be lives saved, suffering reduced, fewer visits to health care facilities, adopting a healthier lifestyle, and similar such benefits. How is this practice promoted within tribal populations?

• Information about the unmet health and wellness needs of AI/AN communities. What is the unmet need? Is there an understanding of what interventions or actions may help address these needs?

• A discussion of how biomedical or behavioral research can further Tribal health and wellness. What are the current gaps in Tribal health research and opportunities for improving health in AI/AN communities? What are some of the barriers or challenges in closing these gaps? How would addressing them reduce mortality, improve quality of life, or otherwise positively affect Tribal communities? The video must convey the research question of interest as part of a holistic picture of Tribal health or AI/AN communities.

Contestants may submit more than one entry. However, the cultural and traditional practices and research described in each submission must be distinct. If a Contestant enters substantially similar submissions, as determined by the NIH, the agency may disqualify the later entries or require the Contestant to choose one entry to enter into the Challenge.

Contestants must include a link to a public or unlisted video on YouTube.com, Vimeo.com, or other internet accessible site. The submission may be disqualified if the video is commercially promotional, contains inappropriate material or language, or presents material unrelated to this challenge, as determined by the NIH. A video must:

• Be in English, if dialogue is present. Use of Native language is encouraged but must include an English caption or other method of translation to English.

• Be no longer than five minutes. The NIH recognizes that there may be a desire to prepare a longer video. However, any part of a video exceeding five minutes will be disregarded as part of the judging process.

• Not include copyrighted material, such as music or photos, unless the Contestant has obtained written permission to use such material.

• Not include proprietary information.

• Include captioning or submission of a written transcript in English for any video with dialogue, to ensure the video can be understood by viewers with disabilities.

○ The video must remain posted at the URL submitted with the entry for at least one year after the Challenge closes. The video (or the link to it) may be displayed publicly on the NIH Web site.

○ Before posting a video online, a Contestant must obtain consent from anyone appearing in the video. If a minor appears in the video, the contestant must obtain consent from the minor's parent or legal guardian.

Amount of the Prize: The Challenge will have no more than five winning submissions. Winning submissions will receive an award and recognition on the NIH Tribal Health Research Office Web site and possibly other NIH outlets. The first place winner will receive $4,000; second place will receive $3,000; third place will receive $2,000; and two honorable mentions will each receive $500. The first place winner will also be invited to an upcoming meeting of the NIH Tribal Consultation Advisory Committee. Travel will be reimbursed for those invitees. If two or more submissions describe the same general advance and are judged to be equally meritorious, the prize will go to either the first submitted submission or the prize will be split between or among the Contestants at the discretion of the NIH. If a team submits a winning entry, a single prize will be awarded to that team to divide amongst the winners, as determined by that entrant. Winning is contingent upon fulfilling all requirements of the Challenge rules. The name, city, state, and submission of winning Contestants will be posted on the NIH Tribal Health Research Office Web site.

The award-approving official will be the NIH Deputy Director for Program Coordination, Planning, and Strategic Initiatives. The winners will be notified by email, telephone, or mail after the date of the judging. Prizes awarded under this Challenge will be paid by electronic funds transfer and may be subject to federal income taxes. The NIH will comply with the Internal Revenue Service withholding and reporting requirements, where applicable.

Basis Upon Which Submissions Will Be Evaluated: This section describes judging criteria and the evaluation process. Submissions first will be assessed by a technical evaluation panel consisting of individuals who will review the relevance of the entry to the AI/AN communities, the accuracy of the advance and impact on AI/ANs, cultural sensitivity, and confirmation of the unmet research need(s) in AI/AN populations. The technical evaluation panel will forward its assessment of each submission to a qualified judging panel composed of NIH program directors and other federal employees involved in AI/AN research. The judging panel will evaluate all submissions and recommend winners based on the assessments from the technical evaluation panel and the following judging criteria:

• Quality, clarity, and historical accuracy. Is the information presented accurately and clearly?

• Impact. Is the story educational, inspiring, and persuasive? Does it clearly convey how the culture or tradition being practiced promotes health and wellness? Does it clearly convey where research could continue to improve health and well-being?

• Originality. The Challenge submission cannot have been previously published.

• Digital technology. Does the video effectively use lighting, sound, and editing to tell the story? Is the dialogue clear and easy to understand? Do visual effects (if any) contribute to the message or detract from it? Does the video convey the intended message in the five minute limit? Is the video of sufficient quality to be posted on the Web? Is captioning or English translation available?

Additional Information: If Contestants choose to provide the NIH with personal information by providing a submission to this Challenge, that information will be used to respond to Contestants in matters regarding their submission, announcements of entry, finalists, and winners of the Challenge.

Dated: November 19, 2016
Lawrence A. Tabak,
Deputy Director, National Institutes of Health.

[FR Doc. 2016-28497 Filed 11-25-16; 8:45 am]

BILLING CODE 4140-01-P